DEPARTMENT OF ENERGY

Federal Energy Regulatory Commission

[Docket No. ER00-2413-003, et al.]

American Electric Power Service Corporation, et al.; Electric Rate and Corporate Regulation Filings

February 5, 2001.

Take notice that the following filings have been made with the Commission:

1. American Electric Power Service Corporation

[Docket No. ER00-2413-003]

Take notice that on January 31, 2001, American Electric Power Service Corporation tendered for filing, on behalf of the operating companies of the American Electric Power System, proposed amendments to the Open Access Transmission Tariff, in compliance with the Commission's December 29, 2000, Order Accepting for Filing, as Modified, Revisions to Open Access Transmission Tariff.

AEP requests effective dates of July 1, 2000.

Copies of AEP's filing have been served upon AEP's transmission customers and the public service commissions of Arkansas, Indiana, Kentucky, Louisiana, Michigan, Ohio, Tennessee, Texas, Virginia and West Virginia and the Oklahoma Corporation Commission.

Comment date: February 21, 2001, in accordance with Standard Paragraph E at the end of this notice.

2. Commonwealth Edison Company

[Docket No. ER01-628-003]

Take notice that on January 30, 2001, Commonwealth Edison Company (ComEd), tendered for filing a second amendment to its December 8, 2000, filing to revise Schedules 4, 4A and 4G to ComEd's Open Access Transmission Tariff (OATT). Revised Schedule 4A, First Revised Sheet No. 125G, and Revised Schedule 4G, First Revised Sheet No. 125V, of ComEd's OATT reference the Ancillary and Other Control Area Services Resource Purchase Agreement (Agreement) between ComEd and Exelon Generation, L.L.C., filed contemporaneously in Docket No. ER01-627-000. Pursuant to a second informal request from the FERC, ComEd is amending its filing in ER01-628-000 to remove the reference in First Revised Sheet No. 125G and First Revised Sheet No. 125V to the Agreement.

Comment date: February 20, 2001, in accordance with Standard Paragraph E at the end of this notice.

3. Carolina Power & Light Company

[Docket No. ER01-498-001]

Take notice that on January 31, 2001, Carolina Power & Light Company (CP&L), tendered for filing a request to withdraw its January 19, 2001, compliance filing in the above-referenced docket.

Comment date: February 21, 2001, in accordance with Standard Paragraph E at the end of this notice.

4. Bangor Hydro-Electric Company

[Docket No. ER01-638-002]

Take notice that on January 31, 2001, Bangor Hydro-Electric Company tendered for filing a revised executed service agreement for firm point-to-point transmission service with Beaver Wood Joint Venture. The service agreement is revised to add the proper designation in compliance with Order No. 614.

Comment date: February 21, 2001, in accordance with Standard Paragraph E at the end of this notice.

5. Duke Electric Transmission

[Docket No. ER01-283-002]

Take notice that on January 31, 2001, Duke Electric Transmission (Duke), tendered for its compliance filing in this proceeding.

Comment date: February 21, 2001, in accordance with Standard Paragraph E at the end of this notice.

6. Exelon Generation Company, L.L.C.

[Docket No. ER00-803-004]

Take notice that on January 31, 2001, Exelon Generation Company, L.L.C. (ExGen), tendered for filing a compliance filing consisting of corrected sheets to a Call Contract between ExGen and PECO Energy Company (PECO) designated as ExGen's Rate Schedule FERC No. 1, to be effective on 12 January 2001.

Copies of this filing were served on ExGen, the Pennsylvania Public Utility Commission and parties of the service list in this docket.

Comment date: February 21, 2001, in accordance with Standard Paragraph E at the end of this notice.

7. California Department of Water Resources, California Power Exchange

[Docket No. ER01-1116-000]

Take notice that on January 31, 2001, the California Department of Water Resources (DWR) tendered for filing a Notice of Termination of its Participation Agreement with the California Power Exchange (PX), PX Agreement No. 55. DWR states that it makes this filing out of an abundance of caution. DWR states that it has given the PX notice of termination pursuant to the PX Tariff, which DWR asserts should be sufficient to effect immediate termination.

DWR requests any waivers as may be necessary to make this termination effective at 0001 hours on January 31, 2001.

DWR states that this filing has been served on the California Power Exchange.

Comment date: February 21, 2001, in accordance with Standard Paragraph E at the end of this notice.

8. American Transmission Systems, Inc., Ohio Edison Company, The Cleveland Electric Illuminating Company, The Toledo Edison Company

[Docket No. ER01-1117-000]

Take notice that on January 31, 2001, American Transmission Systems, Inc. tendered for filing on behalf of itself and Ohio Edison Company, The Cleveland Electric Illuminating Company, and The Toledo Edison Company, a Service Agreement for Network Integration Service and Operating Agreement for the Network Integration Transmission Service under the Ohio Retail Electric Program with AES Power Direct LLC, pursuant to the American Transmission Systems, Inc., Open Access Tariff. This agreement will enable the party to obtain Network Integration Service under the Ohio Retail Electric Program in accordance with the terms of the Tariff.

The proposed effective date under this agreement is January 8, 2001.

Comment date: February 21, 2001, in accordance with Standard Paragraph E at the end of this notice.

9. Duke Electric Transmission, a Division of Duke Energy

[Docket No. ER01-1118-000]

Take notice that on January 31, 2001, Duke Electric Transmission, a division of Duke Energy Corporation (Duke), tendered for filing a revised network integration transmission service agreement (NITSA) between Duke Electric Transmission, Duke Power Company, a division of Duke Energy Corporation, (Duke Power), and South Carolina Electric and Gas Company, a division of SCANA Corporation (SCE&G). The only rate change effected by the NITSA relates to the direct assignment of costs of a new delivery point for SCE&G.

Duke Electric Transmission requests an effective date of February 1, 2001 for the NITSA.

Duke states that copies of this filing have been mailed to Duke Power, SCE&G and the South Carolina Public Service Commission.

Comment date: February 21, 2001, in accordance with Standard Paragraph E at the end of this notice.

10. Illinois Power Company

[Docket No. ER01-1119-000]

Take notice that on January 31, 2001, Illinois Power Company (Illinois Power), 500 South 27th Street, Decatur, Illinois 65251-2200, tendered for filing with the Commission seven (7) Firm Long-Term Point-To-Point Service Agreements entered into with Dynegy Power Marketing, Inc. (DPM) pursuant to Illinois Power's Open Access Transmission Tariff.

Illinois Power requests an effective date of January 1, 2001 for the Agreements and accordingly seeks a waiver of the Commission's notice requirement.

Illinois Power states that a copy of this filing has been sent to DPM.

Comment date: February 21, 2001, in accordance with Standard Paragraph E at the end of this notice.

11. Electric Energy, Inc.

[Docket No. ER01-1120-000]

Take notice that on January 31, 2001, Electric Energy, Inc. (EEInc.), tendered for filing an executed Transmission Service Agreement for Non-Firm Point-to-Point Transmission Service between EEInc., and Ameren Energy, Inc., (Ameren). Under the Transmission Service Agreement, EEInc., will provide Non-Firm Point-to-Point Transmission Service to Ameren pursuant to EEInc.'s open access transmission tariff filed in compliance with Order No. 888 and allowed to become effective by the Commission.

EEInc., has requested that the Service Agreement be allowed to become effective as of April 1, 2001.

Copies of this filing have been sent to Ameren.

Comment date: February 21, 2001, in accordance with Standard Paragraph E at the end of this notice.

12. Louisville Gas and Electric Company/Kentucky Utilities Company

[Docket No. ER01-1123-000]

Take notice that on January 31, 2001, Louisville Gas and Electric Company (LG&E)/Kentucky Utilities (KU) (hereinafter Companies), tendered for filing an executed unilateral Service Sales Agreement between Companies and Powerex Corp. under the Companies' Rate Schedule MBSS.

Comment date: February 21, 2001, in accordance with Standard Paragraph E at the end of this notice.

13. Louisville Gas and Electric Company/Kentucky Utilities Company

[Docket No. ER01-1124-000]

Take notice that on January 31, 2001, Louisville Gas and Electric Company (LG&E)/Kentucky Utilities (KU) (hereinafter Companies), tendered for filing an executed transmission service agreement with LG&E Energy Marketing, Inc. The agreement allows LG&E Energy Marketing, Inc., to take firm point-to-point transmission service from LG&E/KU. The point of receipt is LG&E Energy (LGEE) and the point of delivery is Tennessee Valley Authority (TVA).

Comment date: February 21, 2001, in accordance with Standard Paragraph E at the end of this notice.

14. Louisville Gas And Electric Company/Kentucky Utilities Company

[Docket No. ER01-1125-000]

Take notice that on January 31, 2001, Louisville Gas and Electric Company (LG&E)/Kentucky Utilities (KU) (hereinafter Companies), tendered for filing an executed transmission service agreement with LG&E Energy Marketing, Inc. The agreement allows LG&E Energy Marketing, Inc., to take firm point-to-point transmission service from LG&E/KU. The point of receipt is LG&E Energy (LGEE) and the point of delivery is Cinergy (CIN).

Comment date: February 21, 2001, in accordance with Standard Paragraph E at the end of this notice.

15. Louisville Gas and Electric Company/Kentucky Utilities Company

[Docket No. ER01-1126-000]

Take notice that on January 31, 2001, Louisville Gas and Electric Company (LG&E)/Kentucky Utilities (KU) (hereinafter Companies), tendered for filing an executed transmission service agreement with LG&E Energy Marketing, Inc. The agreement allows LG&E Energy Marketing, Inc., to take firm point-to-point transmission service from LG&E/KU. The point of receipt is LG&E Energy OASIS #69418706 (LGEE) and the point of delivery is Electric Energy Inc., (EEI).

Comment date: February 21, 2001, in accordance with Standard Paragraph E at the end of this notice.

16. Louisville Gas and Electric Company/Kentucky Utilities Company

[Docket No. ER01-1127-000]

Take notice that on January 31, 2001, Louisville Gas and Electric Company (LG&E)/Kentucky Utilities (KU) (hereinafter Companies), tendered for filing an executed transmission service agreement with LG&E Energy Marketing, Inc. The agreement allows LG&E Energy Marketing, Inc., to take firm point-to-point transmission service from LG&E/KU. The point of receipt is LG&E Energy (LGEE) OASIS #69459535 and OASIS #69459534 and the point of delivery is American Electric Power (AEP).

Comment date: February 21, 2001, in accordance with Standard Paragraph E at the end of this notice.

17. Monroe Power Company

[Docket No. ER01-1128-000]

Take notice that on January 31, 2001, Monroe Power Company (Monroe), tendered for filing First Revised Service Agreement No. 3 (Revised Agreement) between Monroe and the Municipal Electric Authority of Georgia (MEAG) under Monroe's market-based sales tariff, FERC Electric Tariff, Original Volume No. 1. The Revised Agreement provides for the sale of output of the Monroe Unit (Unit) from Monroe to MEAG. The revisions include special provisions for the period commencing January 2, 2001 until such time as repairs to the Unit's turbine blades and other repairs are made to restore the Unit to full operational capacity.

Monroe respectfully requested that the Revised Agreement become effective on January 2, 2001.

Copies of the filing were served upon the North Carolina Utilities Commission, the South Carolina Public Service Commission, the Georgia Public Service Commission and MEAG.

Comment date: February 21, 2001, in accordance with Standard Paragraph E at the end of this notice.

18. Duke Energy Power Marketing, LLC

[Docket No. ER01-1129-000]

Take notice that on January 31, 2001, Duke Energy Power Marketing, LLC (DEPM), tendered for filing pursuant to Section 205 of the Federal Power Act its proposed FERC Electric Tariff, Original Volume No. 1. DEPM seeks authority to sell energy and capacity, as well as ancillary services, at market-based rates, together with certain waivers and preapprovals. DEPM also seeks authority to sell, assign, or transfer transmission rights that it may acquire in the course of its marketing activities.

DEPM seeks an effective date 60 days from the date of filing for its proposed rate schedules.

Comment date: February 21, 2001, in accordance with Standard Paragraph E at the end of this notice.

19. Cinergy Services, Inc.

[Docket No. ER01-1130-000]

Take notice that on January 31, 2001, Cinergy Services, Inc. (Cinergy), tendered for filing a Network Service Agreement, Network Operating Agreement, and Specifications for Network Integration Service under Cinergy's Open Access Transmission Tariff (OATT) entered into between Cinergy and The Village of Hamersville. An application for Network Integration Service for The Village of Hamersville, Ohio has been included as an Exhibit to the Service Agreement under OATT.

Copies of the filing were served upon The Village of Hamersville, Ohio.

Cinergy and The Village of Hamersville are requesting an effective date of January 1, 2001.

Comment date: February 21, 2001, in accordance with Standard Paragraph E at the end of this notice.

20. Cinergy Services, Inc.

[Docket No. ER01-1131-000]

Take notice that on January 31, 2001, Cinergy Services, Inc. (Cinergy), tendered for filing a Network Service Agreement, Network Operating Agreement, and Specifications for Network Integration Service under Cinergy's Open Access Transmission Tariff (OATT) entered into between Cinergy and The Village of Georgetown.

An application for Network Integration Service for The Village of Georgetown, Ohio has been included as an Exhibit to the Service Agreement under OATT.

Copies of the filing were served upon The Village of Georgetown, Ohio.

Cinergy and The Village of Georgetown are requesting an effective date of January 1, 2001.

Comment date: February 21, 2001, in accordance with Standard Paragraph E at the end of this notice.

21. Cinergy Services, Inc.

[Docket No. ER01-1132-000]

Take notice that on January 31, 2001, Cinergy Services, Inc. (Cinergy), tendered for filing a Network Service Agreement, Network Operating Agreement, and Specifications for Network Integration Service under Cinergy's Open Access Transmission Tariff (OATT) entered into between Cinergy and The Village of Ripley.

An application for Network Integration Service for The Village of Ripley, Ohio has been included as an Exhibit to the Service Agreement under OATT.

Copies of the filing were served upon The Village of Ripley, Ohio.

Cinergy and The Village of Ripley are requesting an effective date of January 1, 2001.

Comment date: February 21, 2001, in accordance with Standard Paragraph E at the end of this notice.

22. Deseret Generation & Transmission Co-operative, Inc.

[Docket No. ER01-1133-000]

Take notice that on January 31, 2001, Deseret Generation & Transmission Co-operative, Inc. (Deseret), tendered for filing a long-term Service Agreement between Deseret and Kanab City, Utah. Deseret requests that the Commission accept this filing as a service agreement under the Company's Market-Based Rate Tariff, designated Service Agreement No. 6 to FERC Electric Tariff, Original Volume No. 3.

Deseret requests an effective date of January 3, 2001.

Comment date: February 21, 2001, in accordance with Standard Paragraph E at the end of this notice.

23. Canal Electric Company

[Docket No. ER01-1134-000]

Take notice that on January 31, 2001, Canal Electric Company (Canal), tendered for filing the Seventh Amendment to the Power Contract between Canal and its retail affiliates Cambridge Electric Light Company and Commonwealth Electric Company (Canal Rate Schedule FERC No. 33, the Seabrook Power Contract). The Seventh Amendment updates the Seabrook Power Contract's Composite Cost of Capital provision to reflect Canal's retirement of long-term debt and substitution of the long-term debt rate of Canal's parent company, NSTAR. The Seventh Amendment also updates the schedule of annual decommissioning expenses to reflect Canal's current obligation as determined by the New Hampshire Nuclear Decommissioning Financing Committee.

Canal requests an effective date of January 1, 2001.

Comment date: February 21, 2001, in accordance with Standard Paragraph E at the end of this notice.

24. Cinergy Services, Inc.

[Docket No. ER01-1135-000]

Take notice that on January 31, 2001, Cinergy Services, Inc. (Cinergy), tendered for filing a Network Service Agreement, Network Operating Agreement, and Specifications for Network Integration Service under Cinergy's Open Access Transmission Tariff (OATT) entered into between Cinergy and The Village of Bethel.

An application for Network Integration Service for The Village of Bethel, Ohio has been included as an Exhibit to the Service Agreement under OATT.

Copies of the filing were served upon The Village of Bethel, Ohio.

Cinergy and The Village of Bethel are requesting an effective date of January 1, 2001.

Comment date: February 21, 2001, in accordance with Standard Paragraph E at the end of this notice.

25. Ameren Services Company

[Docket No. ER01-1136-000]

Take notice that on January 31, 2001, Ameren Services Company (ASC), tendered for filing an unexecuted Service Agreement for Network Integration Transmission Service and an unexecuted Network Operating Agreement between ASC and Rolla Municipal Utilities (Rolla). ASC asserts that the purpose of the Agreement is to permit ASC to provide transmission service to Rolla pursuant to Ameren's Open Access Tariff.

Comment date: February 21, 2001, in accordance with Standard Paragraph E at the end of this notice.

26. Central Illinois Light Company

[Docket No. ER01-1137-000]

Take notice that on January 31, 2001, Central Illinois Light Company (CILCO), 300 Liberty Street, Peoria, Illinois 61602, tendered for filing with the Commission an Interconnection Agreement with the Village of Riverton for Interconnection.

CILCO requested an effective date of March 1, 2001.

Copies of the filing were served on the affected customer and the Illinois Commerce Commission.

Comment date: February 21, 2001, in accordance with Standard Paragraph E at the end of this notice.

27. Duquesne Light Company

[Docket No. ER01-1138-000]

Take notice that on January 31, 2001, Duquesne Light Company (Duquesne), tendered for filing under Duquesne's market-based rate tariff a long-term service agreement, the Revised QF Agency Agreement between Duquesne and Orion Power Midwest, L.P., (Orion Midwest).

Duquesne has requested that the Commission waive its notice requirements to allow the Service Agreement to become effective as of January 31, 2001.

Comment date: February 21, 2001, in accordance with Standard Paragraph E at the end of this notice.

28. Ameren Services Company

[Docket No. ER01-1139-000]

Take notice that on January 31, 2001, Ameren Services Company (ASC), tendered for filing notice that effective as of January 1, 2001 the Long-Term Firm Point-to-Point Transmission Service Agreement dated August 18, 2000 (Docket No. ER00-369) filed with the Federal Energy Regulatory Commission by Ameren Services Company is to be canceled.

Notice of the proposed cancellation has been served upon Tenaska Power Service Company.

Comment date: February 21, 2001, in accordance with Standard Paragraph E at the end of this notice.

29. American Transmission Systems, Inc.

[Docket No. ER01-1140-000]

Take notice that on January 31, 2001, American Transmission Systems, Incorporated tendered for filing revised specifications to its service agreements with American Municipal Power-Ohio, Inc., Detroit Edison Company, and FirstEnergy Corp., for firm Point-to-Point Transmission Service.

Copies of this filing have been served on the counter-parties, and the public utilities commissions of Ohio and Pennsylvania.

Comment date: February 21, 2001, in accordance with Standard Paragraph E at the end of this notice.

30. Ameren Services Company

[Docket No. ER01-1141-000]

Take notice that on January 31, 2001, Ameren Service Company (ASC), tendered for filing Service Agreements for Long-Term Firm Point-to-Point Transmission Services between ASC and Dynegy Power Marketing, Inc., and Aquila Energy Marketing Corp. ASC asserts that the purpose of the Agreement is to permit ASC to provide transmission service to the parties pursuant to Ameren's Open Access Transmission Tariff.

Comment date: February 21, 2001, in accordance with Standard Paragraph E at the end of this notice.

31. Commonwealth Edison Company

[Docket No. ER01-1142-000]

Take notice that on January 31, 2001, Commonwealth Edison Company (ComEd), tendered for filing two revised Firm Service Agreements with Commonwealth Edison Company, in its Wholesale Merchant Function (WMD), under the terms of ComEd's Open Access transmission tariff (OATT).

ComEd requests an effective date of January 1, 2001 for the revised Service Agreements, and accordingly, seeks waiver of the Commission's notice requirements.

Copies of this filing were served on WMD.

Comment date: February 21, 2001, in accordance with Standard Paragraph E at the end of this notice.

32. MidAmerican Energy Company

[Docket No. ER01-1143-000]

Take notice that on January 31, 2001, MidAmerican Energy Company (MidAmerican), 666 Grand Avenue, Des Moines, Iowa 50303 tendered for filing with the Commission a First Revised Partial Requirements Wholesale Service Agreement dated January 11, 2001 with the City of Fonda, Iowa entered into pursuant to MidAmerican's Rate Schedule for Power Sales, FERC Electric Tariff, Original Volume No. 7 (Tariff).

MidAmerican requests an effective date of January 1, 2001 for this Agreement, and accordingly seeks a waiver of the Commission's notice requirement.

MidAmerican has served a copy of the filing on the City of Fonda, Iowa, the Iowa Utilities Board, the Illinois Commerce Commission and the South Dakota Public Utilities Commission.

Comment date: February 21, 2001, in accordance with Standard Paragraph E at the end of this notice.

33. Central Maine Power Company

[Docket No. ER01-1144-000]

Take notice that on January 31, 2001, Central Maine Power Company (CMP), tendered for filing as an initial rate schedule pursuant to Section 35.12 of the Federal Energy Regulatory Commission's (the Commission) Regulations, 18 CFR 35.12, an unexecuted interconnection agreement (the Unexecuted IA) and an unexecuted Form of Service Agreement for Non-Firm Local Point-to-Point Transmission Service (the Unexecuted TSA) between CMP and Abbott's Mill Hydro (Abbott's Mill). These agreements are intended to replace the Purchased Power Agreement between the parties, which expired on May 31, 2000.

CMP is requesting that the Unexecuted IA and the Unexecuted TSA become effective January 1, 2001.

Copies of this filing have been served upon the Commission, the Maine Public Utilities Commission, and Abbott's Mill.

Comment date: February 21, 2001, in accordance with Standard Paragraph E at the end of this notice.

34. Central Maine Power Company

[Docket No. ER01-1145-000]

Take notice that on January 31, 2001, Central Maine Power Company (CMP), tendered for filing pursuant to Section 205 Federal Power Act (FPA) of the Federal Energy Regulatory Commission (Commission or FERC), Central Maine Company (CMP) submits to the Federal Energy Regulatory Commission a Settlement and Release Agreements between Central Maine Power Company (CMP or Central Maine) and Engage Energy America Corp. (Engage) (collectively referred to hereinafter as the Parties).

CMP respectfully requests that the Commission, accept both Settlement and Release Agreements, as effective December 29, 2000, without modification or condition; and Grant waiver of any and all requirements, including the Commission's notice requirements for good cause, for both Settlement and Release Agreements to become effective.

Comment date: February 21, 2001, in accordance with Standard Paragraph E at the end of this notice.

35. New England Power Pool

[Docket No. ER01-1146-000]

Take notice that on January 31, 2001, the New England Power Pool (NEPOOL) Participants Committee tendered for filing changes to Market Rules 2, Appendix 2-A, 6, 9, and 20-I to become effective as of April 1, 2001.

The Participants Committee states that copies of these materials were sent to the New England state governors and regulatory commissions and the Participants in NEPOOL.

Comment date: February 21, 2001, in accordance with Standard Paragraph E at the end of this notice.

36. Southern Company Services, Inc.

[Docket No. ER01-1150-000]

Take notice that on January 31, 2001, Southern Company Services, Inc., as agent for Georgia Power Company (Georgia Power), tendered for filing the Purchased Power Agreement between Georgia Power and North Carolina Municipal Power Agency No. 1 (NCMPA1), dated March 17, 2000 (the Agreement), pursuant to the Commission's authorization for Georgia Power to sell power at market rates under the Market-Based Rate Tariff, FERC Electric Tariff, First Revised Volume No. 4 (Supersedes Original Volume No. 4). The Agreement provides the general terms and conditions for capacity and associated energy sales from Georgia Power to NCMPA1 commencing on January 1, 2001.

Comment date: February 21, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 01-3423 Filed 2-9-01; 8:45 am]

BILLING CODE 6717-01-P